DEPARTMENT OF HEALTH AND HUMAN SERVICES

Centers for Disease Control and Prevention

Disease, Disability, and Injury Prevention and Control; Special Interest Projects (SIPs): Initial Review

The meeting announced below concerns Examination of Environmental Characteristics that Enable and/or Promote Frequent Indoor Tanning among Young Adults to Inform Future Public Health Policy Efforts to Prevent Skin Cancer, SIP12-054, Pilot Study to Evaluate Strategies for Reducing Medical Radiation Exposure in Children, SIP12-055, and Innovative Message Framing to Increase Support for Evidence-based Tobacco Control, SIP12-060, Panel A, initial review.

In accordance with Section 10(a)(2) of the Federal Advisory Committee Act (Pub. L. 92-463), the Centers for Disease Control and Prevention (CDC) announces the aforementioned meeting:

Time and Date

11:00 a.m.-5:30 p.m., June 20, 2012 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of “Examination of Environmental Characteristics that Enable and/or Promote Frequent Indoor Tanning among Young Adults to Inform Future Public Health Policy Efforts to Prevent Skin Cancer, SIP12-054, Pilot Study to Evaluate Strategies for Reducing Medical Radiation Exposure in Children, SIP12-055, and Innovative Message Framing to Increase Support for Evidence-based Tobacco Control, SIP12-060, Panel A, initial review.”

Contact Person for More Information: M. Chris Langub, Ph.D., Scientific Review Officer, CDC, 4770 Buford Highway NE., Mailstop F-46, Atlanta, Georgia 30341, Telephone: (770) 488-3585, EEO6@cdc.gov.

The Director, Management Analysis and Services Office, has been delegated the authority to sign Federal Register notices pertaining to announcements of meetings and other committee management activities, for both the Centers for Disease Control and Prevention and the Agency for Toxic Substances and Disease Registry.

Dated: May 10, 2012.
Elaine L. Baker,
Director, Management Analysis and Services Office, Centers for Disease Control and Prevention.

[FR Doc. 2012-11952 Filed 5-16-12; 8:45 am]

BILLING CODE 4163-18-P